DEPARTMENT OF THE INTERIOR

Fish and Wildlife Service

U.S. Coral Reef Task Force Public Meeting and Public Comment

[FWS-R9-IA-2010-N154; 6012PBD01 68]

AGENCY: Fish and Wildlife Service, Interior.

ACTION: Notice of public meeting; request for public comment.

SUMMARY: We, the U.S. Fish and Wildlife Service (Service), announce a public meeting of the U.S. Coral Reef Task Force (USCRTF) and a request for written comments. This meeting, the 24th biannual meeting of the USCRTF, provides a forum for coordinated planning and action among Federal agencies, State and territorial governments, and nongovernmental partners. Please register in advance by visiting the website under SUPPLEMENTARY INFORMATION. Advance public comment must be submitted by August 27, 2010, to Liza Johnson at the e-mail, fax, or mailing address listed below. This meeting has time allotted for sharing of in-person public comments, which must be submitted in written format by October 8, 2010.

ADDRESSES: World Resort Saipan, Susupe, Saipan, Commonwealth of the Northern Mariana Islands (phone: 670-234-5900).

DATES: Please be aware of the following dates:

• Advance Public Comments: Submit to Liza Johnson at the e-mail, fax, or mailing address listed below by August 27, 2010.

• Tour on Guam: Saturday, September 11, 2010.

• All Meetings: Registration is required prior to the meeting for all events associated with the meetings.

• Steering Committee Meeting and Workshop: Tuesday, September 14, 2010.

• Meeting: Wednesday, September 15 and Thursday, September 16, 2010.

• Public Comments Given at the Meeting: Submit in writing to Liza Johnson at the e-mail, fax, or mailing address listed below by October 8, 2010.

FOR FURTHER INFORMATION CONTACT: Andrew Gude, DOI (FWS) USCRTF Steering Committee Point of Contact, U.S. Department of the Interior, MS-3530-MIB, 1849 C Street NW., Washington, DC 20240 (phone: 202-208-6211; fax: 202-208-4867; e-mail: Andrew_Gude@fws.gov); or Liza Johnson, U.S. Coral Reef Task Force Department of the Interior Liaison, U.S. Department of the Interior, MS-3530-MIB, 1849 C Street NW., Washington, DC 20240 (phone: 202-208-1378; fax: 202-208-4867; e-mail: Liza_M_Johnson@ios.doi.gov); or visit the USCRTF Web site at www.coralreef.gov.

SUPPLEMENTARY INFORMATION: Established by Presidential Executive Order 13089 in 1998, the USCRTF has a mission to lead, coordinate, and strengthen U.S. government actions to better preserve and protect coral reef ecosystems. The Departments of Commerce and the Interior co-chair the USCRTF, whose members include leaders of 12 Federal agencies, 7 U.S. States and territories, and 3 freely associated States. For more information about the meetings, draft agendas, and how to register, go to http://www.coralreef.gov. A written summary of the meeting will be posted on the Web site within 2 months after the meeting.

Public Comments

Comments may address the meeting, the role of the USCRTF, or general coral reef conservation issues.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 3, 2010.
Laura Davis,
Associate Deputy Secretary, Department of the Interior.

[FR Doc. 2010-19511 Filed 8-5-10; 8:45 am]

BILLING CODE 4310-55-P